DEPARTMENT OF ENERGY

Federal Energy Regulatory Commission

Combined Notice of Filings

Take notice that the Commission has received the following Natural Gas Pipeline Rate and Refund Report filings:

Filings Instituting Proceedings

Docket Numbers: RP23-325-000.

Applicants: Gulf Run Transmission, LLC.

Description: § 4(d) Rate Filing: New NRA's—Paloma, Rockcliff, SW Energy and Chesapeake to be effective 1/1/2023.

Filed Date: 12/30/22.

Accession Number: 20221230-5152.

Comment Date: 5 p.m. ET 1/11/23.

Docket Numbers: RP23-326-000.

Applicants: Northern Natural Gas Company.

Description: § 4(d) Rate Filing: 20221230 Negotiated Rate to be effective 1/1/2023.

Filed Date: 12/30/22.

Accession Number: 20221230-5159.

Comment Date: 5 p.m. ET 1/11/23.

Docket Numbers: RP23-327-000.

Applicants: Transcontinental Gas Pipe Line Company, LLC.

Description: § 4(d) Rate Filing: Negotiated Rates—Cherokee AGL—Replacement Shippers—Jan 2023 to be effective 1/1/2023.

Filed Date: 12/30/22.

Accession Number: 20221230-5171.

Comment Date: 5 p.m. ET 1/11/23.

Docket Numbers: RP23-328-000.

Applicants: LA Storage, LLC.

Description: § 4(d) Rate Filing: Filing of Negotiated Rate, Conforming IW Agreements 12.30.22 to be effective 1/1/2023.

Filed Date: 12/30/22.

Accession Number: 20221230-5186.

Comment Date: 5 p.m. ET 1/11/23.

Docket Numbers: RP23-329-000.

Applicants: Southern Star Central Gas Pipeline, Inc.

Description: § 4(d) Rate Filing: Vol. 2 Filing—Negotiated Rate Agreements—Scout Energy Group III and V to be effective 1/1/2023.

Filed Date: 12/30/22.

Accession Number: 20221230-5191.

Comment Date: 5 p.m. ET 1/11/23.

Docket Numbers: RP23-330-000.

Applicants: Texas Eastern Transmission, LP.

Description: § 4(d) Rate Filing: TETLP EPC FEB 2023 FILING to be effective 2/1/2023.

Filed Date: 12/30/22.

Accession Number: 20221230-5202.

Comment Date: 5 p.m. ET 1/11/23.

Docket Numbers: RP23-331-000.

Applicants: North Baja Pipeline, LLC.

Description: § 4(d) Rate Filing: Sempra LNG Capacity Release of Agreement No. 125165 to be effective 1/1/2023.

Filed Date: 1/3/23.

Accession Number: 20230103-5000.

Comment Date: 5 p.m. ET 1/17/23.

Docket Numbers: RP23-332-000.

Applicants: Equitrans, L.P.

Description: § 4(d) Rate Filing: Negotiated Rate Capacity Release Agreements—1/1/2023 to be effective 1/1/2023.

Filed Date: 1/3/23.

Accession Number: 20230103-5003.

Comment Date: 5 p.m. ET 1/17/23.

Docket Numbers: RP23-333-000.

Applicants: Algonquin Gas Transmission, LLC.

Description: § 4(d) Rate Filing: Negotiated Rates—Various Releases eff 1-1-23 to be effective 1/1/2023.

Filed Date: 1/3/23.

Accession Number: 20230103-5048.

Comment Date: 5 p.m. ET 1/17/23.

Docket Numbers: RP23-334-000.

Applicants: Texas Eastern Transmission, LP.

Description: § 4(d) Rate Filing: Negotiated Rates—Various Releases eff 1-1-23 to be effective 1/1/2023.

Filed Date: 1/3/23.

Accession Number: 20230103-5049.

Comment Date: 5 p.m. ET 1/17/23.

Docket Numbers: RP23-335-000.

Applicants: Gulf South Pipeline Company, LLC.

Description: § 4(d) Rate Filing: Cap Rel Neg Rate Agmt (Methanex 42805 to NextEra 55857) to be effective 1/1/2023.

Filed Date: 1/3/23.

Accession Number: 20230103-5050.

Comment Date: 5 p.m. ET 1/17/23.

Docket Numbers: RP23-336-000.

Applicants: Gulf South Pipeline Company, LLC.

Description: § 4(d) Rate Filing: Cap Rel Neg Rate Agmt (Osaka 46429 to Spotlight 55855, Texla 55858) to be effective 1/1/2023.

Filed Date: 1/3/23.

Accession Number: 20230103-5054.

Comment Date: 5 p.m. ET 1/17/23.

Docket Numbers: RP23-337-000.

Applicants: Rover Pipeline LLC.

Description: § 4(d) Rate Filing: Summary of Negotiated Rate Capacity Release Agreements on 1-3-23 to be effective 1/1/2023.

Filed Date: 1/3/23.

Accession Number: 20230103-5257.

Comment Date: 5 p.m. ET 1/17/23.

Docket Numbers: RP23-338-000.

Applicants: NEXUS Gas Transmission, LLC.

Description: § 4(d) Rate Filing: Negotiated Rates—Various Releases eff 1-1-23 to be effective 1/1/2023.

Filed Date: 1/3/23.

Accession Number: 20230103-5303.

Comment Date: 5 p.m. ET 1/17/23.

Docket Numbers: RP23-339-000.

Applicants: Panhandle Eastern Pipe Line Company, LP.

Description: § 4(d) Rate Filing: New Amended Negotiated Rate Agreement to be effective 11/1/2022.

Filed Date: 1/3/23.

Accession Number: 20230103-5343.

Comment Date: 5 p.m. ET 1/17/23.

Docket Numbers: RP23-340-000.

Applicants: Texas Eastern Transmission, LP.

Description: § 4(d) Rate Filing: Negotiated Rates—NextEra Energy K911746 & K911750 eff 1-1-23 to be effective 1/1/2023.

Filed Date: 1/3/23.

Accession Number: 20230103-5372.

Comment Date: 5 p.m. ET 1/17/23.

Docket Numbers: RP23-341-000.

Applicants: Texas Eastern Transmission, LP.

Description: § 4(d) Rate Filing: Negotiated Rates—Venture Global K911779 to be effective 1/1/2023.

Filed Date: 1/3/23.

Accession Number: 20230103-5401.

Comment Date: 5 p.m. ET 1/17/23.

Docket Numbers: RP23-342-000.

Applicants: Maritimes & Northeast Pipeline, L.L.C.

Description: § 4(d) Rate Filing: Negotiated Rates—Northern to Direct Energy 2777 eff 1-1-23 to be effective 1/1/2023.

Filed Date: 1/3/23.

Accession Number: 20230103-5418.

Comment Date: 5 p.m. ET 1/17/23.

Docket Numbers: RP23-343-000.

Applicants: El Paso Natural Gas Company, L.L.C.

Description: § 4(d) Rate Filing: Negotiated Rate Agmt Update (Conoco—Jan 5 23) to be effective 1/5/2023.

Filed Date: 1/4/23.

Accession Number: 20230104-5054.

Comment Date: 5 p.m. ET 1/17/23.

Docket Numbers: RP23-344-000.

Applicants: Transcontinental Gas Pipe Line Company, LLC.

Description: Compliance filing: Rate Schedule S-2 OFO Refund Report to be effective N/A.

Filed Date: 1/5/23.

Accession Number: 20230105-5000.

Comment Date: 5 p.m. ET 1/17/23.

Docket Numbers: RP23-345-000.

Applicants: Gulf South Pipeline Company, LLC.

Description: § 4(d) Rate Filing: Remove Expired Agreements eff 1-5-23 to be effective 1/5/2023.

Filed Date: 1/5/23.

Accession Number: 20230105-5014.

Comment Date: 5 p.m. ET 1/17/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 5, 2023.
Debbie-Anne A. Reese,
Deputy Secretary.

[FR Doc. 2023-00365 Filed 1-10-23; 8:45 am]

BILLING CODE 6717-01-P